DEPARTMENT OF ENERGY

Federal Energy Regulatory Commission

[Docket No. RP03-469-000]

Questar Pipeline Company; Notice of Tariff Filing

May 7, 2003.

Take notice that on May 2, 2003, Questar Pipeline Company (Questar) tendered for filing as part of its FERC Gas Tariff First Revised Volume No. 1 the following tariff sheets to be effective June 1, 2003.

Original Sheet Nos. 99.01 and 99.02

Third Revised Sheet No. 110

Second Revised Sheet No. 122

Fourth Revised Sheet No. 160

Second Revised Sheet No. 174

Questar states that it is proposing new tariff provisions that describe specific types of discounts that may be offered to its transportation and storage customers on a non-discriminatory basis so that such discounts will not be considered material deviations from Questar's forms of service agreements. Questar states that the discounts will be between Questar's maximum and minimum rates under the applicable rate schedules of its tariff. Questar asserts that approval of these discount provisions will enhance Questar's flexibility to provide a variety of discounts for its shippers without the need and administrative burden of filing individual agreements with the Commission as non-conforming service agreements.

Questar states that within the proposed categories of eligible discounts, it is also seeking authority to provide it and its shippers with the ability to adjust rate components in transportation service agreements under certain circumstances in order to preserve the agreed upon overall rate, as long as all rate components remain within the applicable minimum and maximum rates.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 14, 2003.

Magalie R. Salas,
Secretary.

[FR Doc. 03-11940 Filed 5-12-03; 8:45 am]

BILLING CODE 6717-01-P